DEPARTMENT OF ENERGY

Federal Energy Regulatory Commission

Notice of Attendance at the Arkansas Public Service Commission Technical Conference

April 26, 2010.

The Federal Energy Regulatory Commission hereby gives notice that members and staff may attend the Arkansas Public Service Commission's technical conference in Docket No. 08-136-U scheduled for 9 a.m.-12 noon on Thursday, June 3, 2010, at the Little Rock Regional Chamber of Commerce Building, 1 Chamber Plaza, Little Rock, Arkansas 72201. More information can be found on the Arkansas Public Service Commission's Web site at http://www.apscservices.info/pdf/08/08-136-u_130_1.pdf.

Their attendance is part of the Commission's ongoing outreach efforts.

The discussions may address matters at issue in the following proceedings:

Docket No. EL09-40, Southwest Power Pool, Inc.

Docket No. ER06-451, Southwest Power Pool, Inc.

Docket No. ER08-923, Xcel Energy Services, Inc.

Docket No. ER08-1307, Southwest Power Pool, Inc.

Docket No. ER08-1308, Southwest Power Pool, Inc.

Docket No. ER08-1357, Southwest Power Pool, Inc.

Docket No. ER08-1358, Southwest Power Pool, Inc.

Docket No. ER08-1359, Southwest Power Pool, Inc.

Docket No. ER08-1419, Southwest Power Pool, Inc.

Docket No. ER09-35, Tallgrass Transmission LLC

Docket No. ER09-36, Prairie Wind Transmission LLC

Docket No. ER09-659, Southwest Power Pool, Inc.

Docket No. ER09-1050, Southwest Power Pool, Inc.

Docket No. ER09-1254, Southwest Power Pool, Inc.

Docket No. ER09-1255, Southwest Power Pool, Inc.

Docket No. ER09-1397, Southwest Power Pool, Inc.

Docket No. ER09-1716, Southwest Power Pool, Inc.

Docket No. ER10-352, Southwest Power Pool, Inc.

Docket No. OA08-5, Southwest Power Pool, Inc.

Docket No. OA08-60, Southwest Power Pool, Inc.

Docket No. OA08-61, Southwest Power Pool, Inc.

Docket No. OA08-104, Southwest Power Pool, Inc.

Docket No. ER10-664, Southwest Power Pool, Inc.

Docket No. ER10-678, Southwest Power Pool, Inc.

Docket No. ER10-680, Southwest Power Pool, Inc.

Docket No. ER10-681, Southwest Power Pool, Inc.

Docket No. ER10-692, Southwest Power Pool, Inc.

Docket No. ER10-693, Southwest Power Pool, Inc.

Docket No. ER10-694, Southwest Power Pool, Inc.

Docket No. ER10-696, Southwest Power Pool, Inc.

Docket No. ER10-697, Southwest Power Pool, Inc.

Docket No. ER10-698, Southwest Power Pool, Inc.

Docket No. ER10-700, Southwest Power Pool, Inc.

Docket No. ER10-738, Southwest Power Pool, Inc.

Docket No. ER10-739, Southwest Power Pool, Inc.

Docket No. ER10-754, Southwest Power Pool, Inc.

Docket No. ER10-760, Southwest Power Pool, Inc.

Docket No. ER10-761, Southwest Power Pool, Inc.

Docket No. ER10-762, Southwest Power Pool, Inc.

Docket No. ER10-773, Southwest Power Pool, Inc.

Docket No. ER10-795, Southwest Power Pool, Inc.

Docket No. ER10-798, Southwest Power Pool, Inc.

Docket No. ER10-813, Southwest Power Pool, Inc.

Docket No. ER10-824, Southwest Power Pool, Inc.

Docket No. ER10-830, Southwest Power Pool, Inc.

Docket No. ER10-831, Southwest Power Pool, Inc.

Docket No. ER10-833, Southwest Power Pool, Inc.

Docket No. ER10-888, Southwest Power Pool, Inc.

Docket No. ER10-897, Southwest Power Pool, Inc.

Docket No. ER10-925, Southwest Power Pool, Inc.

Docket No. ER10-941, Southwest Power Pool, Inc.

Docket No. ER10-1069, Southwest Power Pool, Inc.

These meetings are open to the public.

For more information, contact Patrick Clarey, Office of Energy Market Regulation, Federal Energy Regulatory Commission at (317) 249-5937 or patrick.clarey@ferc.gov.

Kimberly D. Bose,
Secretary.

[FR Doc. 2010-10216 Filed 4-30-10; 8:45 am]

BILLING CODE 6717-01-P